FEDERAL MARITIME COMMISSION

Ocean Transportation Intermediary License; Revocation

The Federal Maritime Commission hereby gives notice that the following Ocean Transportation Intermediary licenses have been revoked pursuant to section 19 of the Shipping Act of 1984 (46 U.S.C. chapter 409) and the regulations of the Commission pertaining to the licensing of Ocean Transportation Intermediaries, 46 CFR part 515, effective on the corresponding date shown below:

License Number: 004626N.

Name: J.B.R. Marine Inc.

Address: 1163 Fairway Drive, Suite 106, City of Industry, CA 91789.

Date Revoked: March 16, 2012.

Reason: Voluntarily surrendered license.

License Number: 015941N.

Name: Cargo Plus, Inc.

Address: 8333 Wessex Drive, Pennsauken, NJ 08109.

Date Revoked: April 25, 2012.

Reason: Failed to maintain a valid bond.

License Number: 16743F.

Name: Courtney International Forwarding Inc.

Address: 372 Doughty Blvd., 2nd Floor, Inwood, NY 11096.

Date Revoked: April 30, 2012.

Reason: Failed to maintain a valid bond.

License Number: 019562N.

Name: Maximo Martinez Inc. dba M & M Shipping.

Address: 1656 5th Avenue, Unit A, Bay Shore, NY 11706.

Date Revoked: April 28, 2012.

Reason: Failed to maintain a valid bond.

License Number: 019878NF.

Name: Unity Logistics and Transportation, Inc.

Address: 2116 Merrick Avenue, Suite 4004-B, Merrick, NY 11566.

Date Revoked: April 23, 2012.

Reason: Failed to maintain valid bonds.

License Number: 020376NF.

Name: Unity Container, Inc.

Address: 6105 NW 18th Street, Building 716-C, Suite 402, Miami, FL 33126.

Date Revoked: April 28, 2012.

Reason: Failed to maintain valid bonds.

License Number: 020535N.

Name: Destiny Global Export Corp.

Address: 12 Kingsberry Drive, Somerset, NJ 08873.

Date Revoked: April 27, 2012.

Reason: Failed to maintain a valid bond.

License Number: 021303N.

Name: Guzal Cargo Express Corp.

Address: 5561 NW 72nd Avenue, Miami, FL 33166.

Date Revoked: April 28, 2012.

Reason: Failed to maintain a valid bond.

License Number: 023145NF.

Name: Frontline Cargo Logistics, LLC.

Address: 2980 West 84th Street, Bay #3, Hialeah, FL 33018.

Date Revoked: April 28, 2012.

Reason: Failed to maintain valid bonds.

License Number: 023149N.

Name: Balkans Air Corporation.

Address: 1703 Bath Avenue, Brooklyn, NY 11214.

Date Revoked: April 25, 2012.

Reason: Failed to maintain a valid bond.

License Number: 023172NF.

Name: Miami Freight & Logistics Services, Inc. dba Miami Global Lines.

Address: 3630 NW 76th Street, Miami, FL 33143.

Date Revoked: April 23, 2012.

Reason: Failed to maintain valid bonds.

License Number: 023469NF.

Name: Ramin Razi dba Acorn International Inc.

Address: 20501 Ventura Blvd., Suite 248, Woodland Hills, CA 91364.

Date Revoked: April 30, 2012.

Reason: Failed to maintain valid bonds.

Vern W. Hill,
Director, Bureau of Certification and Licensing.

[FR Doc. 2012-12533 Filed 5-22-12; 8:45 am]

BILLING CODE 6730-01-P